DEPARTMENT OF HOMELAND SECURITY

Coast Guard

33 CFR Part 117

[Docket No. USCG-2018-0852]

Drawbridge Operation Regulation; Swinomish Channel, Whitmarsh, WA

AGENCY: Coast Guard, DHS.

ACTION: Notice of deviation from drawbridge regulation.

SUMMARY: The Coast Guard has issued a temporary deviation from the operating schedule that governs the Burlington Northern Santa Fe Railroad Company (BNSF) Railroad Swing Span Drawbridge 7.6 (Bridge 7.6) across Swinomish Channel, mile 8.4, near Whitmarsh, WA. This deviation is necessary to accommodate replacement of the bridge deck ties and installation of new rail joints. The deviation allows the bridge to remain in the closed-to-navigation position.

DATES: This deviation is effective without actual notice from October 1, 2018 through 3 p.m. on October 5, 2018. For the purposes of enforcement, actual notice will be used from 7 a.m. on September 23, 2018, until October 1, 2018.

ADDRESSES: The docket for this deviation, USCG-2018-0852 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: BNSF (bridge owner) has requested for Bridge 7.6 be allowed to close the span, and need not open to marine traffic to replace bridge deck ties and install new rail joints. BNSF's Bridge 7.6 crosses the Swinomish channel, mile 8.4, near Whitmarsh, WA. The subject bridge provides 8 feet of vertical clearance in the closed-to-navigation position, and 100 feet of horizontal clearance in the open-to-navigation position. Bridge 7.6 provides unlimited vertical clearance in the open-to-navigation position. Vertical and horizontal clearances are referenced to mean high-water elevation.

BNSF work requires the swing span to be in the closed-to-navigation position. The deviation period allows the subject bridge to be in the closed-to-navigation position from 7 a.m. on September 23, 2018 to 3 p.m. on October 05, 2018. During the closure times, the swing span may be opened if at least a two hour notice has been given to the bridge operator. The span will open for emergencies and tribal fishing vessels with a one hour notice to the bridge operator. The deviation period and span operation is described in the table below:

Start time/date | End time/date | Action
7 a.m. Sep 23, 18 | 11 p.m. Sep 23, 18 | Span in the closed-to-navigation position.
9 a.m. Sep 24, 18 | 3 p.m. Sep, 24, 18 | Span in the closed-to-navigation position.
9 a.m. Sep 25, 18 | 3 p.m. Sep 25, 18 | Span in the closed-to-navigation position.
9 a.m. Sep 26, 18 | 3 p.m. Sep 26, 18 | Span in the closed-to-navigation position.
9 a.m. Sep 27, 18 | 3 p.m. Sep 27, 18 | Span in the closed-to-navigation position.
9 a.m. Sep 28, 18 | 3 p.m. Sep 28, 18 | Span in the closed-to-navigation position.
7 a.m. Sep 30, 18 | 11 p.m. Sep 30, 18 | Span in the closed-to-navigation position.
9 a.m. Oct 01, 18 | 3 p.m. Oct 01, 18 | Span in the closed-to-navigation position.
9 a.m. Oct 02, 18 | 3 p.m. Oct 02, 18 | Span in the closed-to-navigation position.
9 a.m. Oct 03, 18 | 3 p.m. Oct 03, 18 | Span in the closed-to-navigation position.
9 a.m. Oct 04, 18 | 3 p.m. Oct 04, 18 | Span in the closed-to-navigation position.
9 a.m. Oct 05, 18 | 3 p.m. Oct 05, 18 | Span in the closed-to-navigation position.

Bridge 7.6 normally operates in accordance with 33 CFR 117.5, and is normally maintained in the open-to-navigation position. The bridge shall operate in accordance to 33 CFR 117.5 at all other times. Waterway usage on the Swinomish Channel includes commercial tugs and barges, U.S. Coast Guard vessels, and large to small pleasure craft. BNSF coordinated with tribal leaders to open Bridge 7.6 during the closure period herein to tribal fishing vessels with an hour notice. BNSF also coordinated with marinas on Swinomish Channel to open the subject bridge, with at least a two hour notice, during the closure period herein.

Vessels able to pass through the subject bridge in the closed-to-navigation position may do so at any time. An alternate route is via the southern Swinomish Channel using Skagit Bay. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: September 24, 2018.
Steven M. Fischer,
Bridge Administrator, Thirteenth Coast Guard District.

[FR Doc. 2018-21254 Filed 9-28-18; 8:45 am]

BILLING CODE 9110-04-P